NUCLEAR REGULATORY COMMISSION

[NRC-2008-0497]

NRC Enforcement Policy Revision

AGENCY: Nuclear Regulatory Commission.

ACTION: Notice of availability of revised draft supplements and request for comments.

SUMMARY: On September 15, 2008 (73 FR 53286), the Nuclear Regulatory Commission (NRC) published a notice of availability and request for comments on its draft proposed revised Enforcement Policy (Enforcement Policy). A corrected proposed revised Enforcement Policy was published on October 16, 2008 (73 FR 61442). The public comment period for the revised Enforcement Policy ended on November 14, 2008. The NRC is now soliciting written comments from interested parties including public interest groups, States, members of the public and the regulated industry (i.e., reactor and materials licensees, vendors, and contractors), on additional proposed revisions to Section 6.0, Supplements-Violation Examples, of the proposed revised Enforcement Policy. This Notice of Availability and request for comments apply only to new proposed revisions to Section 6.0 of the proposed revised Enforcement Policy.

DATES: Submit comments on or before July 8, 2009. Comments received after this date will be considered if it is practical to do so, but the Commission is able to assure consideration only for comments received on or before this date.

ADDRESSES: Comments will be made available to the public in their entirety; personal information, such as your name, address, telephone number, e-mail address, etc. will not be removed from your submission. You may submit comments by any one of the following methods:

Federal e-Rulemaking Portal: http://www.regulations.gov; search on docket ID: NRC-2008-0497.

Mail Comments to: Michael T. Lesar, Chief, Rulemaking and Directives Branch, Mail Stop: TWB-05-B01M, Division of Administrative Services, Office of Administration, U.S. Nuclear Regulatory Commission, Washington, DC 20555-0001.

You can access publicly available documents related to this notice using the following methods:

Federal e-Rulemaking Portal: Documents related to this notice, including public comments, are accessible at http://www.regulations.gov, by searching on docket ID: NRC-2008-0497.

NRC's Public Document Room (PDR): The public may examine and have copied for a fee, publicly available documents at the NRC's PDR, Public File Area O-1F21, One White Flint North, 11555 Rockville Pike, Rockville, Maryland.

NRC's Agencywide Document Access and Management System (ADAMS): The revised draft Supplements of the proposed revised Enforcement Policy are available electronically at the NRC's Electronic Reading Room at http://www.nrc.gov/reading-rm/adams.html under ADAMS Accession Number (ML091520156). From this site, the public can gain entry into ADAMS, which provides text and image files of the NRC's public documents. In addition, revised draft Supplements of the proposed revised Enforcement Policy will be available at http://www.nrc.gov/about-nrc/regulatory/enforcement/public-involvement.html. If you do not have Internet access or if there are problems in accessing the documents located in ADAMS, contact the PDR Reference staff at 1-800-397-4209, 301-415-4737 or by e-mail to pdr.resource@nrc.gov.

FOR FURTHER INFORMATION CONTACT: Doug Starkey, Office of Enforcement, U.S. Nuclear Regulatory Commission, Washington, DC 20555; Doug.Starkey@nrc.gov, 301-415-3456.

SUPPLEMENTARY INFORMATION:

Background

As discussed in the SUPPLEMENTARY INFORMATION of the September 15, 2008 document (73 FR 53286), the NRC, in developing the proposed revised Enforcement Policy, in many instances reworded, deleted, or moved (i.e., moved to the NRC Enforcement Manual, an NRC staff guidance document) some of the information in the current Enforcement Policy. (See the table at ML083050133 for a listing of subject matter in the current Enforcement Policy which was not carried over into the proposed revised Enforcement Policy.) For example, Section 6.0, Supplements-Violation Examples, of the proposed revised Enforcement Policy was significantly reorganized, reworded, and contained much less detail than the supplements in the current Enforcement Policy. In addition, the NRC had also planned to add detailed violation examples to the Enforcement Manual to serve as further guidance to NRC inspectors. However, based on public comments received in response to the September and October 2008 publications of the proposed revised Enforcement Policy, the NRC has reconsidered its original plan to have abbreviated violation examples in the revised Enforcement Policy and detailed violation examples in the Enforcement Manual. The NRC now proposes to continue its past practice of providing violation example supplements in the Enforcement Policy. These revised supplements are intended to cover, in more detail than originally planned, a broad range of circumstances in each of the four severity levels in each of 14 activity areas. It should be noted that the supplements in Section 6.0 of the proposed revised Enforcement Policy are not intended to address every possible circumstance and are therefore neither exhaustive nor controlling.

Because the revised violation supplements that are being proposed for the revised Enforcement Policy have, in some instances, been changed significantly from those previously published, the NRC is providing an opportunity for public comments on the proposed revised supplements.

The NRC maintains the Enforcement Policy on its Web site at http://www.nrc.gov; select Public Meetings and Involvement, Enforcement, and then Enforcement Policy.

Procedural Requirements:

Paperwork Reduction Act

This policy statement does not contain new or amended information collection requirements subject to the Paperwork Reduction Act of 1995 (44 U.S.C. 3501 et seq.). Existing requirements were approved by the Office of Management and Budget (OMB), approval number 3150-0136.

Public Protection Notification

The NRC may not conduct or sponsor, and a person is not required to respond to, a request for information or an information collection requirement unless the requesting document displays a currently valid OMB control number.

Congressional Review Act

In accordance with the Congressional Review Act of 1996, the NRC has determined that this action is not a major rule and has verified this determination with the Office of Information and Regulatory Affairs.

For the Nuclear Regulatory Commission.
Dated at Rockville, MD, this 1st day of June 2009.
Cynthia A. Carpenter,
Director, Office of Enforcement.

[FR Doc. E9-13298 Filed 6-5-09; 8:45 am]

BILLING CODE 7590-01-P